DEPARTMENT OF THE INTERIOR

National Park Service

Notice of Availability for the Record of Decision on the Final General Management Plan/Wilderness Study/Environmental Impact Statement, Sleeping Bear Dunes National Lakeshore, MI

AGENCY: National Park Service, Department of the Interior.

ACTION: Notice of Availability for the Record of Decision on the Final General Management Plan/Wilderness Study/Environmental Impact Statement, Sleeping Bear Dunes National Lakeshore, Michigan.

SUMMARY: Pursuant to Section 102(2)(C) of the National Environmental Policy Act of 1969 (42 U.S.C. 4332(C)), the National Park Service (NPS) announces the availability of the Record of Decision (ROD) for the Final General Management Plan (GMP)/Wilderness Study (WS)/Environmental Impact Statement (EIS), Sleeping Bear Dunes National Lakeshore (Lakeshore), Michigan. On January 6, 2009, the Midwest Regional Director approved the ROD for the project. As soon as practicable, the NPS will begin to implement the preferred alternative contained in the final EIS.

The preferred alternative will provide for the preservation of natural resources, while offering opportunities for visitor enjoyment of natural, cultural, and recreational resources in a scenic outdoor setting. This alternative includes approximately 32,100 acres (45 percent of the Lakeshore) proposed for wilderness. No developed county roads are included in proposed wilderness areas. Visitor services and facilities remain much as they are now, with improvements at key locations on the mainland and on South Manitou Island. Acquisition of lands within the Benzie Corridor will continue.

The ROD includes a statement of the decision made, synopses of other alternatives considered, the basis for the decision, a description of the environmentally preferable alternative, a finding on impairment of park resources and values, a listing of measures to minimize environmental harm, and an overview of public involvement in the decision-making process.

FOR FURTHER INFORMATION CONTACT: Superintendent Dusty Shultz, 9922 Front Street, Empire, Michigan 49630-9797, or by calling (231) 326-5134, extension 101. Copies of the ROD are available upon request from the above address or may be viewed online at http://parkplanning.nps.gov/slbe.

Dated: March 11, 2009.
Alan M. Hutchings,
Acting Regional Director, Midwest Region.

[FR Doc. E9-8200 Filed 4-9-09; 8:45 am]

BILLING CODE